DEPARTMENT OF VETERANS AFFAIRS

38 CFR Part 8

Processing Claims Under the Sergeant First Class Heath Robinson Honoring Our Promise To Address Comprehensive Toxics Act of 2022, or the Honoring Our Pact Act of 2022

AGENCY: Department of Veterans Affairs.

ACTION: Notification of modification of sub-regulatory guidance.

SUMMARY: On August 10, 2022, the President signed the Sergeant First Class Heath Robinson Honoring our Promise to Address Comprehensive Toxics Act of 2022, or the Honoring our PACT Act of 2022 (PACT Act) into law, establishing substantial legislative changes in laws administered by the Department of Veterans Affairs (VA). VA began processing PACT Act-related claims on January 1, 2023, and provided sub-regulatory guidance while it drafts regulations to implement the PACT Act. The sub-regulatory guidance is now being updated to reflect recent policy changes.

DATES: June 17, 2024.

FOR FURTHER INFORMATION CONTACT: Carla Ryan, Assistant Director, Military Exposures Team, Compensation Service, Department of Veterans Affairs, 810 Vermont Avenue NW, Washington, DC 202-461-9700. (This is not a toll-free number.)

SUPPLEMENTARY INFORMATION: VA is drafting regulations to implement the PACT Act. In the interim, VA has provided sub-regulatory guidance to claims processors in the form of a Policy Letter. The Policy Letter was included as a supporting document to the Federal Register Notification published on December 22, 2022 (87 FR 78543). As discussed below, the Policy Letter is hereby revised. The revised Policy Letter can be found as a supporting document at https://www.regulations.gov.

I. Background

On August 10, 2022, the PACT Act of 2022 was signed into law. This historic, multifaceted law, which triggers changes to disability compensation examination requirements when there is evidence a Veteran has participated in a toxic exposure risk activity, also expands the list of locations eligible for a presumption of exposure to radiation, expands the list of conditions subject to presumptions of service connection associated with herbicide exposure, amends the statute involving certain benefits for Persian Gulf War Veterans, establishes presumptions of service connection for conditions associated with exposure to burn pits and other toxins, and provides an avenue for a claimant-elected reevaluation of previously denied dependency and indemnity compensation (DIC) claims that can result in retroactive effective dates for benefits.

VA currently is drafting regulations to implement the PACT Act and to address any gaps and ambiguity in the statutory language. Due to the time required to promulgate regulations, VA implemented the law and began processing PACT Act-related claims on January 1, 2023, based on the sub-regulatory guidance contained in the Policy Letter issued in December 2022.

II. Update

The Policy Letter has been revised to (1) clarify that under 38 U.S.C. 1168(b) a medical examination and opinion is not warranted where the only participation in a toxic exposure risk activity (TERA) that is established is based on an entry in an exposure tracking record system, such as the Individual Longitudinal Exposure Record (ILER), that does not corroborate or substantiate potential exposure to toxic substances, chemicals, or airborne hazards in service; (2) add breast cancer as a disease that the Secretary has determined has no indication of an association with herbicide exposure, so it is included on the list of conditions not warranting a medical examination and opinion under 38 U.S.C. 1168 when the only TERA is related to herbicide exposure; (3) remove renal cancer (kidney and renal pelvis) from the list of conditions established pursuant to 38 U.S.C. 1168(b) for which a medical examination and opinion is not warranted when the only TERA is related to herbicide exposure; (4) indicate that the expanded list of locations eligible for a presumption of radiation exposure under sections 401 and 402 of the PACT Act have been added to VA regulations; (5) specify that for entitlement to spina bifida benefits under 38 U.S.C. 1822, covered service in Thailand means service in Thailand at any United States or Royal Thai base during the period beginning on January 9, 1962, and ending on May 7, 1975, without regard to where on the base the Veteran was located or what military job specialty the Veteran performed; (6) add male breast cancer, urethral cancer, and cancer of the paraurethral glands as reproductive cancers under section 406 of the PACT Act; (7) remove references to “Lymphomatic cancer of any type” due to a recent law change under the National Defense Authorization Act for Fiscal Year 2023; and (8) make non-substantive edits for clarity. The revised Policy Letter allows VA to better operationalize the PACT Act and deliver earned benefits to Veterans and their dependents as quickly as possible while simultaneously continuing efforts to promulgate the implementing regulations.

Signing Authority

Denis McDonough, Secretary of Veterans Affairs, approved and signed this document on June 7, 2024, and authorized the undersigned to sign and submit the document to the Office of the Federal Register for publication electronically as an official document of the Department of Veterans Affairs.

Jeffrey M. Martin,
Assistant Director, Office of Regulation Policy & Management, Office of General Counsel, Department of Veterans Affairs.

[FR Doc. 2024-13010 Filed 6-14-24; 8:45 am]

BILLING CODE 8320-01-P